DEPARTMENT OF HOMELAND SECURITY

U.S. Citizenship and Immigration Services

[OMB Control Number 1615-NEW]

Agency Information Collection Activities; New Collection: Generic Clearance for the Collection of Certain Biographic and Employment Identifiers on Immigration Forms

AGENCY: U.S. Citizenship and Immigration Services, Department of Homeland Security.

ACTION: 60-Day notice.

SUMMARY: The Department of Homeland Security (DHS), U.S. Citizenship and Immigration Services (USCIS) invites the general public and other Federal agencies to comment upon this proposed new collection of information. In accordance with the Paperwork Reduction Act (PRA) of 1995, the information collection notice is published in the Federal Register to obtain comments regarding the nature of the information collection, the categories of respondents, the estimated burden (i.e., the time, effort, and resources used by the respondents to respond), the estimated cost to the respondent, and the actual information collection instruments. This collection of information is necessary to comply with section 2 of the Executive order (E.O.) 14161 entitled “Protecting the United States from Foreign Terrorists and Other National Security and Public Safety Threats” to establish enhanced screening and vetting standards and procedures to enable USCIS to assess an alien's eligibility to receive an immigration-related benefit. This data collection also is used to help validate an applicant's identity and to determine whether such grant of a benefit poses a security or public-safety risk to the United States.

DATES: Comments are encouraged and will be accepted for 60 days until July 28, 2025.

ADDRESSES: All submissions received must include the Office of Management and Budget (OMB) Control Number 1615-NEW in the body of the letter, the agency name and Docket ID USCIS-2025-0006. Submit comments via the Federal eRulemaking Portal website at https://www.regulations.gov under e-Docket ID number USCIS-2025-0006.

FOR FURTHER INFORMATION CONTACT: USCIS, Office of Policy and Strategy, Regulatory Coordination Division, Jerry Rigdon, Acting Chief, telephone number (240) 721-3000 (This is not a toll-free number. Comments are not accepted via telephone message). Please note contact information provided here is solely for questions regarding this notice. It is not for individual case status inquiries. Applicants seeking information about the status of their individual cases can check Case Status Online, available at the USCIS website at https://www.uscis.gov, or call the USCIS Contact Center at 800-375-5283 (TTY 800-767-1833).

SUPPLEMENTARY INFORMATION:

Comments

You may access the information collection instrument with instructions or additional information by visiting the Federal eRulemaking Portal site at: https://www.regulations.gov and entering USCIS-2025-0006 in the search box. Comments must be submitted in English, or an English translation must be provided. All submissions will be posted, without change, to the Federal eRulemaking Portal at https://www.regulations.gov and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of https://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Background

E.O. 14161, “Protecting the United States from Foreign Terrorists and Other National Security and Public Safety Threats,” directs implementation of uniform vetting standards and necessitates the collection of all information necessary for a rigorous vetting and screening of all grounds of inadmissibility and removability or bases for the denial of immigration-related benefits. See 90 FR 8451 (Jan. 20, 2025). Implementation of the directives provided in the E.O. requires U.S. Citizenship and Immigration Services (USCIS) to collect standard data on immigration forms and/or information collection systems. This data will be collected from certain populations of individuals on applications for immigration-related benefits and is necessary for the enhanced identity verification, vetting, and national security screening and inspection conducted by USCIS and required under the E.O.

This collection of information is necessary to comply with section 2 of the E.O. to establish screening and vetting standards and procedures to enable USCIS to assess an alien's eligibility to receive an immigration-related benefit from USCIS. This data collection is also used to validate an applicant's identity and to help determine whether such grant of a benefit poses a security or public-safety threat to the United States.

USCIS will collect biographic information on immigration information collection instruments and systems. USCIS will update its forms and systems to collect additional information from individuals who seek admissibility or other benefits when that information is not already collected.

New Information To Be Collected

U.S. Government departments and agencies involved in screening and vetting, to include USCIS, identified 24 data elements that would constitute a new baseline threshold of data to be collected for improved identity verification and national security vetting. These 24 core data elements were published in the Federal Register at 90 FR 11326 on March 3, 2025. These six (6) new data elements are in addition to and separate from the data elements for which USCIS requested comments in the March 3, 2025, generic clearance notice, but they are also needed for further identification and national security vetting and will be added to certain immigration benefit request forms where the information is not already collected.

The following six (6) data elements are biographic and employment identifiers used to help USCIS confirm both an individual's identity as it relates to the submitted application and to other records. These biographic identifiers are also used by USCIS and screening partners to help confirm or disprove a relevant association between an applicant and information of interest and the strength of that association in the context of the underlying information.

1. Beneficiary/Applicant/Petitioner Social Security Number

2. Family Member (parent(s), spouse, sibling(s), and child(ren)) Social Security Number

3. Business/Employer Name

4. Business/Employer Physical Address

5. Business/Employer Mailing Address

6. Business Federal Employer Identification Number

Programs Affected, OMB Control Numbers

• OMB No. 1615-0052—Form N-400, Application for Naturalization

• OMB No. 1615-0013—Form I-131, Application for Travel Document

• OMB No. 1615-0017—Form I-192, Application for Advance Permission to Enter as a Nonimmigrant

• OMB No. 1615-0023—Form I-485, Application to Register Permanent Residence or Adjust status

• OMB No. 1615-0067—Form I-589, Application for Asylum and for Withholding of Removal

• OMB No. 1615-0068—Form I-590, Registration for Classification as Refugee

• OMB No. 1615-0037—Form I-730, Refugee/Asylee Relative Petition

• OMB No. 1615-0038—Form I-751, Petition to Remove Conditions on Residence

• OMB No. 1615-0045—Form I-829, Petition by Entrepreneur to Remove Conditions on Permanent Resident Status

Applicant information is collected to maintain a record of persons applying for specific immigration benefits, and to help determine whether these applicants are eligible to receive the benefits for which they are applying. The information provided through USCIS forms is also analyzed—along with other information that the Secretary of Homeland Security determines is necessary, including information about other persons included on the USCIS forms—against various security and law enforcement databases to identify those applicants who may pose a security or public-safety risk to the United States.

Overview of This Information Collection

(1) Type of Information Collection: New Collection.

(2) Title of the Form/Collection: Generic Clearance for the Collection of Certain Biographic and Employment Identifiers on Immigration Forms.

(3) Agency form number, if any, and the applicable component of the DHS sponsoring the collection: GC-2025-0006; USCIS.

(4) Affected public who will be asked or required to respond, as well as a brief abstract: Primary: Individuals or households. E.O. 14161, “Protecting the United States from Foreign Terrorists and Other National Security and Public Safety Threats,” directs implementation of uniform vetting standards and necessitates collection of all information necessary for a rigorous vetting and screening of all grounds of inadmissibility and removability or bases for the denial of immigration-related benefits. Implementation of the directives in the E.O. requires USCIS to collect standard data on immigration forms and/or information collection systems. This data will be collected from certain populations of individuals on applications for immigration-related benefits and is necessary for the enhanced identity verification, vetting and national security screening, and inspection conducted by USCIS and required under the E.O.

(5) An estimate of the total number of respondents and the amount of time estimated for an average respondent to respond:

• The estimated total number of respondents for the information collection N-400 is 909,700 and the estimated hour burden per response is 2 hours.

• The estimated total number of respondents for the information collection I-131 is 1,073,059 and the estimated hour burden per response is 2 hours.

• The estimated total number of respondents for the information collection I-192 is 68,050 and the estimated hour burden per response is 2.08 hours.

• The estimated total number of respondents for the information collection I-485 is 1,060,585 and the estimated hour burden per response is 2 hours.

• The estimated total number of respondents for the information collection I-589 is 203,379 and the estimated hour burden per response is 2 hours.

• The estimated total number of respondents for the information collection I-590 is 106,200 and the estimated hour burden per response is 2.08 hours.

• The estimated total number of respondents for the information collection I-730 is 13,000 and the estimated hour burden per response is 2 hours.

• The estimated total number of respondents for the information collection I-751 is 140,000 and the estimated hour burden per response is 2 hours.

• The estimated total number of respondents for the information collection I-829 is 1,010 and the estimated hour burden per response is 2 hours.

(6) An estimate of the total public burden (in hours) associated with the collection: The total estimated annual hour burden associated with this collection is 7,163,906 hours.

(7) An estimate of the total public burden (in cost) associated with the collection: The estimated total annual cost burden associated with this collection of information is $0. No additional costs to the public are anticipated due to this action. Any costs to the respondents associated with the specific form filed are captured in those approved information collections.

Dated: May 22, 2025.
Jerry L. Rigdon,
Acting Chief, Regulatory Coordination Division, Office of Policy and Strategy, U.S. Citizenship and Immigration Services, Department of Homeland Security.

[FR Doc. 2025-09585 Filed 5-28-25; 8:45 am]

BILLING CODE 9111-97-P